GENERAL SERVICES ADMINISTRATION

41 CFR Parts 102-83

[Notice-MA-2025-16; Docket No. 2025-0002; Sequence 14]

Federal Management Regulation; Designation of Authority and Sustainable Siting; Planned Revision

AGENCY: Office of Government-wide Policy (OGP), General Services Administration (GSA).

ACTION: Notification of upcoming revision of FMR Case 2023-102-1.

SUMMARY: GSA plans to issue a final rule revising the Federal Management Regulation (FMR) Case 2023-102-1, “Designation of Authority and Sustainable Siting” published on April 22, 2024.

DATES: April 16, 2025.

ADDRESSES: Those interested can view FMR Case 2023-102-1 at https://www.regulations.gov/document/GSA-FMR-2023-0012-0001.

FOR FURTHER INFORMATION CONTACT: For clarification of content please contact Alexander Kurien, Office of Government-wide Policy, at (202) 208-7642, or by email at realpropertypolicy@gsa.gov. Please cite Notice of Revision of FMR Case 2023-102-1.

SUPPLEMENTARY INFORMATION: GSA plans to revise FMR Case 2023-102-1 (FR Doc. 2024-08452 (89 FR 29261)) in line with Executive Order (E.O.) 14148, Initial Rescissions of Harmful Executive Orders and Actions. GSA will amend the Federal Management Regulation Location of Space to remove sustainability and diversity, equity, and inclusion language.

Larry Allen,
Associate Administrator, Office of Government-wide Policy.

[FR Doc. 2025-06278 Filed 4-15-25; 8:45 am]

BILLING CODE 6820-14-P